Title 3—

The President

Proclamation 10091 of October 1, 2020

National Manufacturing Day, 2020

By the President of the United States of America

A Proclamation

Since the founding of our Nation, Americans have been renowned for their craftsmanship and productivity. On National Manufacturing Day, we celebrate our dedicated American workers who carry on this legacy, recognizing that manufacturing is a cornerstone of our economic prosperity and national security. The workmanship and ingenuity of American manufacturers make “Made in the U.S.A.” an enduring stamp of patriotism and excellence, and we will always support the men and women whose work ensures that American manufacturing is second to none.

Since my first day in office, I have put America first, ushering in an unprecedented manufacturing revival. In 2017, I signed into law the Tax Cuts and Jobs Act, supercharging our economic resurgence after more than a decade of stagnation. My Administration also embarked on a long-overdue effort to eliminate unnecessary and burdensome regulations, unleashing the full potential of our manufacturers. Under my leadership, we also renegotiated one-sided and unfair trade deals, finally putting American workers and their interests first to ensure they can compete on a level playing field with their foreign counterparts.

These policies and achievements have delivered historic results for the American worker and American families. Prior to the coronavirus pandemic, our Nation had added more than 483,000 manufacturing jobs since my inauguration. In addition, more than 430 organizations have signed my Administration's Pledge to America's workers, committing to providing education and training opportunities for 16 million American students and workers over the next 5 years, with manufacturing workers as a primary beneficiary. Thanks to the renegotiated United States-Korea Free Trade Agreement, which I signed in September of 2018, American manufacturers are being treated more fairly on the global stage, and we ended a bilateral trade deficit of more than 170 percent caused by previous administrations' disastrous policies. In January of this year, I also delivered on my promise to replace the outdated North American Free Trade Agreement by signing into law the United States-Mexico-Canada Agreement, which will create nearly 600,000 new jobs—including 76,000 in the auto industry alone—and spur up to $235 billion in new economic activity for our country.

In recent months, the vital importance of our Nation's manufacturing sector to the strength, security, and resilience of our country has become abundantly clear. Since the arrival of the coronavirus from China, the health and safety of the American people has depended more than ever on American manufacturing for essential goods and medical supplies. To help facilitate the delivery of essential supplies and goods, I invoked the Defense Production Act and related authorities more than 100 times since March to launch the greatest manufacturing mobilization since the Second World War, quickly focusing the might of American industry toward defeating the virus. Our manufacturers have delivered when they were needed most, working with Federal, State, and local government partners to produce more than 240 million N95 respirators, one billion surgical masks, 45 million face shields, 430 million gowns, and 28 billion gloves—in addition to continuing to keep grocery store shelves stocked and deliver other essential goods to the American people. The men and women who occupy manufacturing sector jobs have been and continue to be heroes in this effort, ensuring the strength of our supply chain and fueling our nationwide response to the virus.

As our Nation continues to reopen, we know that our manufacturing sector is vital to our economic recovery. Already, we are seeing signs that a historic resurgence is well underway; we added 29,000 manufacturing jobs in August alone, the same month in which manufacturing activity reached a 19-month high. American workers have pioneered the greatest advancements in history, and they will overcome this latest challenge as well and continue to transform lives around the world. Today, as we celebrate National Manufacturing Day and our Nation's exceptional manufacturing heritage, let us resolve to expand American excellence in manufacturing into the future, securing our national prosperity for generations to come.

NOW, THEREFORE, I, Donald J. Trump, President of the United States of America, by virtue of the authority vested in me by the Constitution and the laws of the United States, do hereby proclaim October 2, 2020, as National Manufacturing Day. I call upon all Americans to observe this day to celebrate today's manufacturing and the U.S. manufacturers that make our communities strong.

IN WITNESS WHEREOF, I have hereunto set my hand this first day of October, in the year of our Lord two thousand twenty, and of the Independence of the United States of America the two hundred and forty-fifth.

[FR Doc. 2020-22349

Filed 10-6-20; 8:45 am]

Billing code 3295-F1-P